SECURITIES AND EXCHANGE COMMISSION

17 CFR Part 200

[Release No. 33-11139; 34-96508; IA-6203; IC-34774]

Technical Amendments to Commission Rules

AGENCY: Securities and Exchange Commission.

ACTION: Final rule; technical amendments.

SUMMARY: To conform with current Federal Register requirements of structuring statutory authority citations within the Code of Federal Regulations (“CFR”), the Securities and Exchange Commission (“Commission”) is adopting technical amendments to its regulations regarding organization; conduct and ethics; and information and requests. The technical amendments move the citations of statutory authority for the regulations from the subpart level to the part level and amend related citations to remove duplicative statutory citations at the subpart level.

DATES: Effective: December 21, 2022.

FOR FURTHER INFORMATION CONTACT: J. Matthew DeLesDernier, Deputy Secretary, Office of the Secretary, (202) 551-5400, Securities and Exchange Commission, 100 F Street NE, Washington, DC 20549.

SUPPLEMENTARY INFORMATION: To conform with current Federal Register requirements for structuring statutory authority citations within the CFR, the Commission is making technical changes to Commission rules to provide enhanced clarity regarding citations of statutory authority for part 200 of 17 CFR (“part 200”) and its subparts.¹ Specifically, the Commission is moving the citations of statutory authority contained in subparts of 17 CFR part 200 to appear directly under 17 CFR part 200. Currently, the citations of statutory authority for part 200 are provided at the subpart level. The technical amendments move these citations of statutory authority from the subpart level to the part level. In connection with these changes, the Commission is amending the citations to statutory authority for the subparts of part 200 to: (1) remove duplication in the citations of statutory authority resulting from this change; and (2) update citation formats to match current Federal Register standards.

¹ See 17 CFR 200.1 through 200.800.

I. Administrative Law Matters

The Commission finds, in accordance with the Administrative Procedure Act (“APA”), that these amendments relate solely to agency organization, procedure, or practice.² Accordingly, the APA's provisions regarding notice of rulemaking and opportunity for public comment are not applicable. These changes are therefore effective on December 21, 2022. In accordance with the APA, we find that there is good cause to establish an effective date less than 30 days after publication of these amendments.³ These amendments do not substantially affect the rights or obligations of non-agency parties and pertain to clarifying the authority of internal Commission operations. For the same reasons, the provisions of the Small Business Regulatory Enforcement Fairness Act are not applicable.⁴ Additionally, the provisions of the Regulatory Flexibility Act,⁵ which apply only when notice and comment are required by the APA or other law, are not applicable.⁶ These amendments do not contain any collection of information requirements as defined by the Paperwork Reduction Act of 1995.⁷ Further, because these amendments impose no new burdens on private parties, the Commission does not believe that the amendments will have any impact on competition for purposes of section 23(a)(2) of the Exchange Act.⁸

² 5 U.S.C. 553(b)(3)(A).

³ 5 U.S.C. 553(d).

⁴ See 5 U.S.C. 804(3)(C) (the term “rule” does not include “any rule of agency organization, procedure, or practice that does not substantially affect the rights or obligations of non-agency parties”).

⁵ 5 U.S.C. 601 et seq.

⁶ See 5 U.S.C. 601(2).

⁷ See 5 CFR 1320.3.

⁸ 15 U.S.C. 78w(a)(2).

II. Statutory Authority

We are adopting these technical amendments under the authority set forth in section 19(a) of the Securities Act of 1933 [15 U.S.C. 77s], section 319 of the Trust Indenture Act of 1939 [15 U.S.C. 77sss], section 23(a) of the Securities Exchange Act of 1934 [15 U.S.C. 78w(a)], section 38(a) of the Investment Company Act of 1940 [15 U.S.C. 80a-37(a)], and section 211(a) of the Investment Advisers Act of 1940 [15 U.S.C. 80b-11(a)].

List of Subjects in 17 CFR Part 200

Administrative practice and procedure, Authority delegations (Government agencies).

Text of Amendments

For reasons set forth in the preamble, title 17, chapter II of the Code of Federal Regulations is amended as follows:

PART 200—ORGANIZATION; CONDUCT AND ETHICS; AND INFORMATION AND REQUESTS

1. Add an authority citation for part 200 to read as follows:

Authority: 5 U.S.C. 552, 552a, 552b, and 557; 11 U.S.C. 901 and 1109(a); 15 U.S.C. 77c, 77e, 77f, 77g, 77h, 77j, 77o, 77q, 77s, 77u, 77z-3, 77ggg(a), 77hhh, 77sss, 77uuu, 78b, 78c(b), 78d, 78d-1, 78d-2, 78e, 78f, 78g, 78h, 78i, 78k, 78k-1, 78l, 78m, 78n, 78o, 78o-4, 78q, 78q-1, 78w, 78t-1, 78u, 78w, 78ll(d), 78mm, 78eee, 80a-8, 80a-20, 80a-24, 80a-29, 80a-37, 80a-41, 80a-44(a), 80a-44(b), 80b-3, 80b-4, 80b-5, 80b-9, 80b-10(a), 80b-11, 7202, and 7211 et seq.; 29 U.S.C. 794; 44 U.S.C. 3506 and 3507; Reorganization Plan No. 10 of 1950 (15 U.S.C. 78d nt); sec. 8G, Pub. L. 95-452, 92 Stat. 1101 (5 U.S.C. App.); sec. 913, Pub. L. 111-203, 124 Stat. 1376, 1827; sec. 3(a), Pub. L. 114-185, 130 Stat. 538; E.O. 11222, 30 FR 6469, 3 CFR, 1964-1965 Comp., p. 36; E.O. 12356, 47 FR 14874, 3 CFR, 1982 Comp., p. 166; E.O. 12600, 52 FR 23781, 3 CFR, 1987 Comp., p. 235; Information Security Oversight Office Directive No. 1, 47 FR 27836; and 5 CFR 735.104 and 5 CFR parts 2634 and 2635, unless otherwise noted.

Subpart A—Organization and Program Management

2. Remove the authority citation for part 200, subpart A.

Subpart B—Disposition of Commission Business

3. Remove the authority citation for part 200, subpart B.

Subpart C—Canons of Ethics

4. Remove the authority citation for part 200, subpart C.

Subpart D—Information and Requests

5. Remove the authority citation for part 200, subpart D.

Subpart F—Code of Behavior Governing Ex Parte Communications Between Persons Outside the Commission and Decisional Employees

6. Remove the authority citation for part 200, subpart F.

Subpart G—Plan of Organization and Operation Effective During Emergency Conditions

7. Remove the authority citation for part 200, subpart G.

Subpart H—Regulations Pertaining to the Privacy of Individuals and Systems of Records Maintained by the Commission

8. Remove the authority citation for part 200, subpart H.

Subpart I—Regulations Pertaining to Public Observation of Commission Meetings

9. Remove the authority citation for part 200, subpart I.

Subpart J—Classification and Declassification of National Security Information and Material

10. Remove the authority citation for part 200, subpart J.

Subpart K—Regulations Pertaining to the Protection of the Environment

11. Remove the authority citation for part 200, subpart K.

Subpart L—Enforcement of Nondiscrimination on the Basis of Handicap in Programs or Activities Conducted by the Securities and Exchange Commission

12. Remove the authority citation for part 200, subpart L.

Subpart M—Regulation Concerning Conduct of Members and Employees and Former Members and Employees of the Commission

13. Remove the authority citation for part 200, subpart M.

Subpart N—Commission Information Collection Requirements Under the Paperwork Reduction Act: OMB Control Numbers

14. Remove the authority citation for part 200, subpart N.

By the Commission.
Dated: December 15, 2022.
J. Matthew DeLesDernier,
Deputy Secretary.

[FR Doc. 2022-27636 Filed 12-20-22; 8:45 am]

BILLING CODE 8011-01-P